DEPARTMENT OF STATE

22 CFR Part 121

[Public Notice 4209]

RIN AB-60

Amendment to the International Traffic in Arms Regulations, United States Munitions List

AGENCY: Department of State.

ACTION: Final rule.

SUMMARY: The Department of State is revising Category V—Explosives, Propellants, Incendiary Agents, and Their Constituents and Category XIV—Toxicological Agents and Equipment and Radiological Equipment, of the U.S. Munitions List (USML). Amendments are made to the titles of both categories to better reflect the items included in the category and to move the texts of the definitional and interpretive provisions to the appropriate category. Also, to assist exporters, Category V and XIV are reformatted to identify the items by their predominant use. Exporters are also being provided Chemical Abstract Service (CAS) numbers and Chemical Weapons Convention (CWC) references. In addition to reformatting and changes in the language for clarification, Category XIV and Category V are revised to move from the USML to the jurisdiction of the Department of Commerce several items that have been identified as having predominantly commercial application and no significant military applicability. The items so transferred in Category XIV are fluorine, liquid pepper and chloropicrin. The items so transferred in Category V are nitroguanidine (NG), guanidine nitrate, compounds composed of fluorine and one or more of the following: Other halogens, oxygen, nitrogen, and propyleneimide 2-methylaziridine, unless the articles are compounded or mixed with any item controlled by the USML.

EFFECTIVE DATE: November 27, 2002.

FOR FURTHER INFORMATION CONTACT: Mr. Stephen J. Tomchik, Office of Defense Trade Controls, Department of State, Telephone (202) 663-2799 or FAX (202) 261-8199. ATTN: Regulatory Change, USML Part 121, Category V and XIV.

SUPPLEMENTARY INFORMATION: This notice of rulemaking provides the results of a review, by the Department of State in consultation with the Departments of Defense and Commerce, of Category V and XIV of the U.S. Munitions List. To better reflect the items included in each category, the titles are amended. To assist the exporter, the definitional and interpretive provisions from § 121.12 and § 121.13 are moved to Category V, those from § 121.7 to Category XIV, and the numbered sections are captioned “Reserved”. Also to assist the exporter, Chemical Abstract Service (CAS) numbers and Chemical Weapons Convention (CWC) references are being provided. Exporters are advised that the CAS numbers do not cover all the substances and mixtures controlled by the categories and CWC numbers are provided only when deemed appropriate.

In addition to amending the title and adding CAS numbers, the coverage of Category V, paragraph (c) is amended to add (c)(4) to cover, in addition to fuels for category VIII, fuels for the items in Category IV and VI. The fuels for category IV and VI articles are currently controlled by the components, parts and accessories paragraph in each of the categories. A new paragraph (c)(7) has been added to category V to clarify control of pyrotechnics that currently are covered by Category (V), paragraph (d). The language in section 121.13 is removed and the section “reserved”, and the language in section 121.13 is now in Category V, paragraphs (c)(4) and (c)(9). The fuel thickeners currently in Category V, paragraph (b) are moved to paragraph (c) resulting in propellants in paragraph (c) being moved to paragraph (b). The compounds currently in Category V, paragraph (e) are moved to the relevant paragraph in the category in which the article is covered (e.g., binders, additives, etc.) and the technical data and services currently in paragraph (f) are moved to a new paragraph (h).

The amendments in Category XIV, in addition to changing the title and adding CAS numbers and CWC references, include the transfer to Category XVI of nuclear radiation detection and measuring devices currently in paragraph (d) of Category XIV. The inclusion of this coverage in Category XVI will be published in the results of the review of the entire category XVI. Paragraph (d) now controls tear gases and riot control agents. The equipment in paragraph (c) for the dissemination, detection, identification and defense of the articles in this category is moved to paragraph (f) and paragraph (k). Paragraph (c) now covers chemical agent binary precursors and key precursors. Paragraph (f), currently covering technical data, is revised re-designate paragraph (f) as Significant Military Equipment (SME) and to cover items currently in Category X(c) of the USML. Category XIV, paragraph (f) now includes equipment and its components, parts, accessories, and attachments specifically designed or modified for military operations and compatibility with military equipment (e.g., the dissemination, dispersion, testing, detection, identification, warning, monitoring, sample collection and processing; and individual protection of the chemical and biological agents listed in paragraphs (a) and (b) of the category). This includes military protective clothing and masks, but not those items designed for domestic preparedness (e.g., civil defense), collective protection, and decontamination or remediation. These movements resulted in the technical data currently in paragraph (f) being moved to a new paragraph (l). The components, parts, accessories, attachments and associated equipment for the items in category XIV, currently in paragraph (e), are moved to a new paragraph (k), and paragraph (e) now covers defoliants. The coverage of defoliants is expanded to include Agent Orange.

The remaining new paragraphs (e.g. (d), (g), (h), (i), (j), (k), and (m)) added to Category XIV are for clarification, specific identification and movement of the articles currently covered in the category, and for transfer of the language in section 121.7.

In addition to the above amendments, four explosives and three chemicals were identified as having predominant civil use warranting their removal from the USML and transfer to the Commerce Control List. In Category V, the items and examples of their commercial use are: Nitroguanidine (NG) (e.g., used in pet insecticides), guanidine nitrate (e.g., used in disinfectants and photographic chemicals), propyleneimide 2-methulaziridine (e.g., used by paint and pharmaceutical manufacturers), and compounds composed of fluorine and one or more of the following: Other halogens, oxygen, nitrogen (e.g., used in freon). In Category XIV, the items and examples of their commercial use are: Fluorine (e.g., used in production of metallic and other fluoride and fluorocarbons, and as an active constituent of fluoridating compounds used in water and toothpaste), liquid pepper (e.g., derived from cayenne pepper and used by both for law enforcement and in commercially available sprays for personal protection), and chloropicrin (e.g., used in commercial fumigants and soil insecticides, and as a disinfectant for cereals and grains). In accordance with the requirements of Section 38(f) of the Arms Export Control Act (AECA), this removal has been notified to the Congress, and the Commerce Control List (CCL) controls identified are: (1) For propyleneimide 2-methulaziridine and compounds composed of fluorine and one or more of the following: Other halogens, oxygen, and nitrogen—ECCN 1C018; (2) nitroguanidine (NG) and guanidine nitrate—ECCN 1C011, (3) for chloropicrin—ECCN 1C355, (4) for liquid pepper—ECCN 1A984, and for fluorine—ECCN EAR99.

Finally, Category X, Protective Personnel Equipment, is amended to delete the current paragraph (c) and renumber the paragraphs since protective apparel and equipment specifically designed or modified for use with toxicological agents and equipment is now covered by paragraph (f) of Category XIV.

This amendment involves a foreign affairs function of the United States and, therefore, is not subject to the procedures required by 5 U.S.C. 553 and 554. It is exempt from review under Executive Order 12866, but has been reviewed internally by the Department of State to ensure consistency with the purposes thereof. This rule does not require analysis under the Regulatory Flexibility Act or the Unfunded Mandates Reform Act. It has been found not to be a major rule within the meaning of the Small Business Regulatory Enforcement Act of 1966. It will not have substantial direct effects on the States, the relationship between the National Government and the States, or on the distribution of power and responsibilities among the various levels of government. Therefore, in accordance with section 6 of Executive Order 13132, it is determined that this rule does not have sufficient federalism implications to warrant application of Executive Orders Nos. 12372 and 13123. However, affected U.S. persons are invited to submit written comments to the Department of State, Office of Defense Trade Controls, ATTN: Stephen Tomchik, Regulatory Change, USML Categories V and XIV, 12th Floor, SA-1, Washington, DC 20522-0112.

List of Subjects in 22 CFR Part 121

Arms and munitions, Exports.

Accordingly, for the reasons set forth above, Title 22, Chapter I, Subchapter M, Part 121 is amended as follows:

PART 121—THE UNITED STATES MUNITIONS LIST

1. The authority citation for Part 121 continues to read as follows:

Authority: Sec. 2, 38, and 71, Pub. L. 90-629, 90 Stat. 744 (22 U.S.C. 2752, 2278, 2797); E.O. 11958, 42 FR 4311; 3 CFR 1977 Comp. p. 79; 22 U.S.C. 2658; Pub. L. 105-261, 112 Stat. 1920.

2. In § 121.1, Category V—Explosives, Propellants, Incendiary Agents, and Their Constituents, paragraphs (c) and (d) of Category X—Protective Personnel Equipment, and Category XIV—Toxicological Agents and Equipment and Radiological Equipment are revised to read as follows:

§ 121.1 General. The United States Munitions List.

* * * * *

Category V—Explosives and Energetic Materials, Propellants, Incendiary Agents and Their Constituents

*(a) Explosives, and mixtures thereof: (1) ADNBF (aminodinitrobenzofuroxan or 7-Amino 4,6-dinitrobenzofurazanr-1-oxide) (CAS 97096-78-1);

(2) BNCP (cis-bis (5-nitrotetrazolato) tetra amine-cobalt (III) perchlorate);

(3) CL-14 (diamino dinitrobenzofuroxan or 5,7-diamino-4,6-dinitrobenzofurazane-1-oxide) (CAS 117907-74-1);

(4) CL-20 (HNIW or Hexanitrohexaazaisowurtzitane); (CAS 135285-90-4); chlathrates of CL-20 (see paragraphs (g)(3) and (4) of this category);

(5) CP (2-(5-cyanotetrozolato) penta aminecobalt (III) perchlorate); (CAS 70247-32-4);

(6) DADE (1,1-diamino-2,2-dinitroethylene, FOX7);

(7) DDFP (1,4-dinitrodifurazanopiperazine);

(8) DDPO (2,6-diamino-3,5-dinitropyrazine-1-oxide, PZO); (CAS 194486-77-6);

(9) DIPAM (3,3′-Diamino-2,2′,4,4′,6,6′-hexanitrobiphenyl or dipicrimide) (CAS 17215-44-0);

(10) DNGU (DINGU or dinitroglycoluril) (CAS 55510-04-8);

(11) Furazans, as follows:

(i) DAAOF (diaminoazoxyfurazan);

(ii) DAAzF (diaminoazofurazan) (CAS 78644-90-3);

(12) HMX and derivatives (see paragraph (g)(5) of this category):

(i) HMX (Cyclotetramethylenetetranitramine; octahydro-1,3,5,7-tetranitro-1,3,5,7-tetrazine; 1,3,5,7-tetranitro-1,3,5,7-tetraza-cyclooctane; octogen, octogene) (CAS 2691-41-0);

(ii) Diflouroaminated analogs of HMX;

(iii) K-55 (2,4,6,8-tetranitro-2,4,6,8-tetraazabicyclo [3,3,0]-octanone-3, tetranitrosemiglycouril, or keto-bicyclic HMX) (CAS 130256-72-3);

(13) HNAD (hexanitroadamantane) (CAS 143850-71-9);

(14) HNS (hexanitrostilbene) (CAS 20062-22-0);

(15) Imidazoles, as follows:

(i) BNNI (Octohydro-2,5-bis(nitroimino) imidazo [4,5-d]Imidazole);

(ii) DNI (2,4-dinitroimidazole) (CAS 5213-49-0);

(iii) FDIA (1-fluoro-2,4-dinitroimidazole);

(iv) NTDNIA (N-(2-nitrotriazolo)-2,4-dinitro-imidazole);

(v) PTIA (1-picryl-2,4,5-trinitroimidazole);

(16) NTNMH (1-(2-nitrotriazolo)-2-dinitromethylene hydrazine);

(17) NTO (ONTA or 3-nitro-1,2,4-triazol-5-one) (CAS 932-64-9);

(18) Polynitrocubanes with more than four nitro groups;

(19) PYX (2,6-Bis(picrylamino)-3,5-dinitropyridine) (CAS 38082-89-2);

(20) RDX and derivatives:

(i) RDX (cyclotrimethylentrinitramine), cyclonite, T4, hexahydro-1,3,5-trinitro-1,3,5-triazine, 1,3,5-trinitro-1,3,5-triaza-cyclohexane, hexogen, or hexogene) (CAS 121-84-4);

(ii) Keto-RDX (K-6 or 2,4,6-trinitro-2,4,6-triazacyclohexanone (CAS 115029-35-1);

(21) TAGN (Triaminoguanidinenitrate) (CAS 4000-16-2);

(22) TATB (Triaminotrinitrobenzene) (CAS 3058-38-6) (see paragraph (g)(7) of this category);

(23) TEDDZ (3,3,7,7-tetrabis(difluoroamine) octahydro-1,5-dinitro-1,5-diazocine;

(24) Tetrazoles, as follows:

(i) NTAT (nitrotriazol aminotetrazole);

(ii) NTNT (1-N-(2-nitrotriazolo)-4-nitrotrazole);

(25) Tetryl (trinitrophenylmethylnitramine) (CAS 479-45-8);

(26) TNAD (1,4,5,8-tetranitro-1,4,5,8-tetraazadecalin) (CAS 135877-16-6)(see paragraph (g)(6) of this category);

(27) TNAZ (1,1,3-trinitroazetidine) (CAS 97645-24-4) (see paragraph (g)(2) of this category);

(28) TNGU (SORGUYL or tetranitroglycoluril) (CAS 55510-03-7);

(29) TNP (1,4,5,8-tetranitropyridazine (CAS 229176-04-9);

(30) Triazines, as follows:

(i) DNAM (2-oxy-4,6-dinitroamino-s-triazine) (CAS 19899-80-0);

(ii) NNHT (2-nitroimino-5-nitro-hexahydro-1,3,5 triazine) (CAS 130400-13-4);

(31) Triazoles, as follows:

(i) 5-azido-2-nitratriazole;

(ii) ADHTDN (4-amino-3,5-hihydrazino-1,2,4-triazole dinitramide) (CAS 1614-08-0);

(iii) ADNT (1-amino-3,5-dinitro-1,2,4-triazole);

(iv) BDTNTA ([Bis-dinitrotriazole]amine);

(v) DBT (3,3'-dinitro-5,5-bi-1,2,4-triazole) (CAS 30003-46-4);

(vi) DNBT (dinitrobistriazole) (CAS 70890-46-9);

(vii) NTDNA (2-nitrotriazole 5-dinitramide);

(viii) NTDNT (1-N-(2-nitrotriazolo) 3,5-dinitro-triazole);

(ix) PDNT (1-picryl-3,5-dinitrotriazole);

(x) TACOT (tetranitrobenzotriazolobenzotriazole) (CAS 25243-36-1);

(32) Any explosive not listed elsewhere in paragraph (a) of this category with a detonation velocity exceeding 8,700m/s at maximum density or a detonation pressure exceeding 34 Gpa (340 kbar).

(33) Other organic explosives not listed elsewhere in paragraph (a) of this category yielding detonation pressures of 25 Gpa (250 kbar) or more that will remain stable at temperatures of 523K (250oC) or higher for periods of 5 minutes or longer;

(34) Diaminotrinitrobenzene (DATB);

(35) Any other explosive not elsewhere identified in this category specifically designed, modified, adapted, or configured (e.g. formulated) for military application.

* (b) Propellants:

(1) Any United Nations (UN) Class 1.1 solid propellant with a theoretical specific impulse (under standard conditions) of more than 250 seconds for non-metallized, or 270 seconds for metallized compositions;

(2) Any UN Class 1.3 solid propellant with a theoretical specific impulse (under standard conditions) of more than 230 seconds for non-halogenized, or 250 seconds for non-metallized compositions;

(3) Propellants having a force constant of more than 1,200 kJ/Kg;

(4) Propellants that can sustain a steady-state burning rate more than 38mm/s under standard conditions (as measured in the form of an inhibited single strand) of 6.89 Mpa (68.9 bar) pressure and 294K (210 C);

(5) Elastomer modified cast double based propellants with extensibility at maximum stress greater than 5% at 233 K (−40C);

(6) Any propellant containing substances listed in Category V;

(7) Any other propellant not elsewhere identified in this category specifically designed, modified, adapted, or configured (e.g., formulated) for military application.

(c) Pyrotechnics, fuels and related substances, and mixtures thereof:

(1) Alane (aluminum hydride)(CAS 7784-21-6);

(2) Carboranes; decaborane (CAS 17702-41-9); pentaborane and derivatives thereof;

(3) Hydrazine and derivatives:

(i) Hydrazine (CAS 302-01-2) in concentrations of 70% or more (not hydrazine mixtures specially formulated for corrosion control);

(ii) Monomethyl hydrazine (CAS 60-34-4);

(iii) Symmetrical dimethyl hydrazine (CAS 540-73-8);

(iv) Unsymmetrical dimethyl hydrazine (CAS 57-14-7);

(4) Liquid fuels specifically formulated for use by articles covered by Categories IV, VI, and VIII;

(5) Spherical aluminum powder (CAS 7429-90-5) in particle sizes of 60 micrometers or less manufactured from material with an aluminum content of 99% or more;

(6) Metal fuels in particle form whether spherical, atomized, spheroidal, flaked or ground, manufactured from material consisting of 99% or more of any of the following:

(i) Metals and mixtures thereof:

(A) Beryllium (CAS 7440-41-7) in particle sizes of less than 60 micrometers;

(B) Iron powder (CAS 7439-89-6) with particle size of 3 micrometers or less produced by reduction of iron oxide with hydrogen;

(ii) Mixtures, which contain any of the following:

(A) Boron (CAS 7440-42-8) or boron carbide (CAS 12069-32-8) fuels of 85% purity or higher and particle sizes of less than 60 micrometers;

(B) Zirconium (CAS 7440-67-7), magnesium (CAS 7439-95-4) or alloys of these in particle sizes of less than 60 micrometers;

(iii) Explosives and fuels containing the metals or alloys listed in paragraphs (c)(6)(i) and (c)(6)(ii) of this category whether or not the metals or alloys are encapsulated in aluminum, magnesium, zirconium, or beryllium;

(7) Pyrotechnics and pyrophoric materials specifically formulated for military purposes to enhance or control the production of radiated energy in any part of the IR spectrum.

(8) Titanium subhydride (TiHn) of stoichiometry equivalent to n = 0.65-1.68;

(9) Military materials containing thickeners for hydrocarbon fuels specially formulated for use in flame throwers or incendiary munitions; metal stearates or palmates (also known s octol); and M1, M2 and M3 thickeners;

(10) Any other pyrotechnic, fuel and related substance and mixture thereof not elsewhere identified in this category specifically designed, modified, adapted, or configured (e.g., formulated) for military application.

(d) Oxidizers, to include:

(1) ADN (ammonium dinitramide or SR-12) (CAS 140456-78-6);

(2) AP (ammonium perchlorate) (CAS 7790-98-9);

(3) BDNPN (bis,2,2-dinitropropylnitrate) (CAS 28464-24-6);

(4) DNAD (1,3-dinitro-1,3-diazetidine) (CAS 78246-06-7);

(5) HAN (Hydroxylammonium nitrate) (CAS 13465-08-2);

(6) HAP (hydroxylammonium perchlorate) (CAS 15588-62-2);

(7) HNF (Hydrazinium nitroformate) (CAS 20773-28-8);

(8) Hydrazine nitrate (CAS 37836-27-4);

(9) Hydrazine perchlorate (CAS 27978-54-7);

(10) Liquid oxidizers comprised of or containing inhibited red fuming nitric acid (IRFNA) (CAS 8007-58-7) or oxygen diflouride;

(11) Perchlorates, chlorates, and chromates composited with powdered metal or other high energy fuel components controlled by this category;

(12) Any other oxidizer not elsewhere identified in this category specifically designed, modified, adapted, or configured (e.g., formulated) for military application.

* (e) Binders, and mixtures thereof:

(1) AMMO (azidomethylmethyloxetane and its polymers) (CAS 90683-29-7) (see paragraph (g)(1) of this category);

(2) BAMO (bisazidomethyloxetane and its polymers) (CAS 17607-204) (see paragraph (g)(1) of this category);

(3) BTTN (butanetrioltrinitrate) (CAS 6659-60-5) (see paragraph (g)(8) of this category);

(4) FAMAO (3-difluoroaminomethyl-3-azidomethyl oxetane) and its polymers;

(5) FEFO (bis-(2-fluoro-2,2-dinitroethyl)formal) (CAS 17003-79-1);

(6) GAP (glycidylazide polymer) (CAS 143178-24-9) and its derivatives;

(7) HTPB (hydroxyl terminated polybutadiene) with a hydroxyl functionality equal to or greater than 2.2 and less than or equal to 2.4, a hydroxyl value of less than 0.77 meq/g, and a viscosity at 30° C of less than 47 poise (CAS 69102-90-5);

(8) NENAS (nitratoethylnitramine compounds) (CAS 17096-47-8, 85068-73-1 and 82486-82-6);

(9) Poly-NIMMO (nitratomethylmethyloxetane (poly [3-nitratomethyl, 3-methyl oxetane] or (NMMO)) (CAS 84051-81-0);

(10) Energetic monomers, plasticizers and polymers containing nitro, azido nitrate, nitraza or difluoromaino groups specially formulated for military use;

(11) TVOPA 1,2,3-Tris [1,2-bis(difluoroamino) ethoxy]propane; tris vinoxy propane adduct;

(12) Polynitrorthocarbonates;

(13) FPF-1 poly-2,2,3,3,4,4-hexafluoro pentane-1,5-diolformal;

(14) FPF-3 poly-2,4,4,5,5,6,6-heptafluoro-2-trifluoromethyl-3-oxaheptane-1,7-dioformal;

(15) PGN (Polyglycidylnitrate or poly(nitratomethyl oxirane); poly-GLYN);

(16) N-methyl-p-nitroaniline;

(17) Low (less than 10,000) molecular weight, alcohol-functionalized, poly(epichlorohydrin); poly(epichlorohydrindiol); and triol;

(18) Bis(2,2-dinitropropyl) formal and acetal;

(19) Any other binder and mixture thereof not elsewhere identified in this category specifically designed, modified, adapted, or configured (e.g. formulated) for military application.

(f) Additives:

(1) Basic copper salicylate (CAS 62320-94-9);

(2) BHEGA (Bis-(2-hydroxyethyl)glycolamide) (CAS 17409-41-5);

(3) Ferrocene Derivatives:

(i) Butacene (CAS 125856-62-4);

(ii) Catocene (2,2-Bis-ethylferrocenyl propane) (CAS 37206-42-1);

(iii) Ferrocene carboxylic acids;

(iv) n-butyl-ferrocene (CAS 319904-29-7);

(4) Lead beta-resorcylate (CAS 20936-32-7);

(5) Lead citrate (CAS 14450-60-3);

(6) Lead-copper chelates of beta-resorcylate or salicylates (CAS 68411-07-4);

(7) Lead maleate (CAS 19136-34-6);

(8) Lead salicylate (CAS 15748-73-9);

(9) Lead stannate (CAS 12036-31-6);

(10) MAPO (tris-1-(2-methyl)aziridinyl phosphine oxide) (CAS 57-39-6); BOBBA-8 (bis(2-methyl aziridinyl) 2-(2-hydroxypropanoxy) propylamino phosphine oxide); and other MAPO derivatives;

(11) Methyl BAPO (Bis(2-methyl aziridinyl) methylamino phosphine oxide) (CAS 85068-72-0);

(12) 3-Nitraza-1,5 pentane diisocyanate (CAS 7406-61-9);

(13) Organo-metallic coupling agents, specifically:

(i) Neopentyl[diallyl]oxy, tri [dioctyl] phosphatotitanate (CAS 103850-22-2); also known as titanium IV, 2,2[bis 2-propenolato-methyl, butanolato, tris (dioctyl) phosphato] (CAS 110438-25-0), or LICA 12 (CAS 103850-22-2);

(ii) Titanium IV, [(2-propenolato-1) methyl, n-propanolatomethyl] butanolato-1, tris(dioctyl)pyrophosphate, or KR3538;

(iii) Titanium IV, [2-propenolato-1)methyl, propanolatomethyl] butanolato-1, tris(dioctyl) phosphate;

(14) Polyfunctional aziridine amides with isophthalic, trimesic (BITA or butylene imine trimesamide), isoyanuric, or trimethyladipic backbone structures and 2-methyl or 2-ethyl substitutions on the aziridine ring and its polymers;

(15) Superfine iron oxide (Fe2O3 hematite) with a specific surface area more than 250 m 2/g and an average particle size of 0.003 μm or less (CAS 1309-37-1);

(16) TEPAN (tetraethylenepentaamineacrylonitrile) (CAS 68412-45-3); cyanoethylated polyamines and their salts;

(17) TEPANOL (Tetraethylenepentamineacrylonitrileglycidol) (CAS 110445-33-5); cyanoethylated polyamines adducted with glycidol and their salts;

(18) TPB (triphenyl bismuth) (CAS 603-33-8);

(19) PCDE (Poly­cyanodifluoroaminoethyleneoxide);

(20) BNO (Butadienenitrileoxide);

(21) Any other additive not elsewhere identified in this category specifically designed, modified, adapted, or configured (e.g., formulated) for military application.

(g) Precursors, as follows:

(1) BCMO (bischloromethyloxetane) (CAS 142173-26-0) (see paragraphs (e)(1) and (2) of this category);

(2) Dinitroazetidine-t-butyl salt (CAS 125735-38-8) (see paragraph (a)(28) of this category);

(3) HBIW (hexabenzylhexaazaisowurtzitane) (CAS 124782-15-6) (see paragraph (a)(4) of this category);

(4) TAIW (tetraacetyldibenzylhexa-azaisowurtzitane) (see paragraph (a)(4) of this category);

(5) TAT (1,3,5,7-tetraacetyl-1,3,5,7-tetraaza-cyclooctane) (CAS 41378-98-7) (see paragraph (a)(13) of this category);

(6) Tetraazadecalin (CAS 5409-42-7) (see paragraph (a)(27) of this category);

(7) 1,3,5-trichorobenzene (CAS 108-70-3) (see paragraph (a)(23) of this category);

(8) 1,2,4-trihydroxybutane (1,2,4-butanetriol) (CAS 3068-00-6) (see paragraph (e)(5) of this category);

(h) Technical data (as defined in § 120.21 of this subchapter) and defense services (as defined in § 120.8 of this subchapter) directly related to the defense articles numerated in paragraphs (a) through (g) of this category. (See § 125.4 of this subchapter for exemptions.) Technical data directly related to the manufacture or production of any defense articles enumerated elsewhere in this category that are designated as Significant Military Equipment (SME) shall itself be designated SME.

(i) The following interpretations explain and amplify the terms used in this category and elsewhere in this subchapter.

(1) Category V contains explosives, energetic materials, propellants and pyrotechnics and specially formulated fuels for aircraft, missile and naval applications. Explosives are solid, liquid or gaseous substances or mixtures of substances, which, in their primary, booster or main charges in warheads, demolition or other military applications, are required to detonate.

(2) Paragraph (c)(6)(ii)(A) of this category does not control boron and boron carbide enriched with boron-10 (20% or more of total boron-10 content.

(3) The resulting product of the combination of any controlled or non-controlled substance compounded or mixed with any item controlled by this subchapter is also subject to the controls of this category.

Note 1: To assist the exporter, an item has been categorized by the most common use. Also, a reference has been provided to the related controlled precursors (e.g., see paragraph (a)(12) of this category). Regardless of where the item has been placed in the category, all exports are subject to the controls of this subchapter.

Note 2: Chemical Abstract Service (CAS) registry numbers do not cover all the substances and mixtures controlled by this category. The numbers are provided as examples to assist the government agencies in the license review process and the exporter when completing their license application and export documentation.

* * * * *

Category X—Protective Personnel Equipment

* * * * *

(c) Components, parts, accessories, attachments, and associated equipment specifically designed or modified for use with the articles in paragraphs (a) and (b) of this category.

(d) Technical data (as defined in § 120.10) and defense services (as defined in § 120.9 of this subchapter) directly related to the defense articles enumerated in paragraphs (a) through (c) of this category.

* * * * *

Category XIV—Toxicological Agents, Including Chemical Agents, Biological Agents, and Associated Equipment

* (a) Chemical agents, to include:

(1) Nerve agents:

(i) O-Alkyl (equal to or less than C10, including cycloalkyl) alkyl (Methyl, Ethyl, n-Propyl or Isopropyl)phosphonofluoridates, such as: Sarin (GB): O-Isopropyl methylphosphonofluoridate (CAS 107-44-8) (CWC Schedule 1A); and Soman (GD): O-Pinacolyl methylphosphonofluoridate (CAS 96-64-0) (CWC Schedule 1A);

(ii) O-Alkyl (equal to or less than C10, including cycloalkyl) N,N-dialkyl (Methyl, Ethyl, n-Propyl or Isopropyl)phosphoramidocyanidates, such as: Tabun (GA): O-Ethyl N, N-dimethylphosphoramidocyanidate (CAS 77-81-6) (CWC Schedule 1A);

(iii) O-Alkyl (H or equal to or less than C10, including cycloalkyl) S-2-dialkyl (Methyl, Ethyl, n-Propyl or Isopropyl)aminoethyl alkyl (Methyl, Ethyl, n-Propyl or Isopropyl)phosphonothiolates and corresponding alkylated and protonated salts, such as: VX: O-Ethyl S-2-diisopropylaminoethyl methyl phosphonothiolate (CAS 50782-69-9) (CWC Schedule 1A);

(2) Amiton: O,O-Diethyl S-[2(diethylamino)ethyl] phosphorothiolate and corresponding alkylated or protonated salts (CAS 78-53-5) (CWC Schedule 2A);

(3) Vesicant agents:

(i) Sulfur mustards, such as: 2-Chloroethylchloromethylsulfide (CAS 2625-76-5) (CWC Schedule 1A); Bis(2-chloroethyl)sulfide (CAS 505-60-2) (CWC Schedule 1A); Bis(2-ch1oroethylthio)methane (CAS 63839-13-6) (CWC Schedule 1A); 1,2-bis (2-chloroethylthio)ethane (CAS 3563-36-8) (CWC Schedule 1A); 1,3-bis (2-ch1oroethylthio)-n-propane (CAS 63905-10-2) (CWC Schedule 1A); 1,4-bis (2-chloroethylthio)-n-butane (CWC Schedule 1A); 1,5-bis (2-chloroethylthio)-n-pentane (CWC Schedule 1A); Bis (2-chloroethylthiomethyl)ether (CWC Schedule 1A); Bis (2-chloroethylthioethyl)ether (CAS 63918-89-8) (CWC Schedule 1A);

(ii) Lewisites, such as: 2-chlorovinyldichloroarsine (CAS 541-25-3) (CWC Schedule 1A); Tris (2-chlorovinyl) arsine (CAS 40334-70-1) (CWC Schedule 1A); Bis (2-chlorovinyl) chloroarsine (CAS 40334-69-8) (CWC Schedule 1A);

(iii) Nitrogen mustards, such as: HN1: bis (2-chloroethyl) ethylamine (CAS 538-07-8) (CWC Schedule 1A); HN2: bis (2-chloroethyl) methylamine (CAS 51-75-2) (CWC Schedule 1A); HN3: tris (2-chloroethyl)amine (CAS 555-77-1) (CWC Schedule 1A);

(iv) Ethyldichloroarsine (ED);

(v) Methyldichloroarsine (MD);

(4) Incapacitating agents, such as:

(i) 3-Quinuclindinyl benzilate (BZ) (CAS 6581-06-2) (CWC Schedule 2A);

(ii) Diphenylchloroarsine (DA) (CAS 712-48-1);

(iii) Diphenylcyanoarsine (DC);

* (b) Biological agents and biologically derived substances specifically developed, configured, adapted, or modified for the purpose of increasing their capability to produce casualties in humans or livestock, degrade equipment or damage crops.

* (c) Chemical agent binary precursors and key precursors, as follows:

(1) Alkyl (Methyl, Ethyl, n-Propyl or Isopropyl) phosphonyl diflourides, such as: DF: Methyl Phosphonyldifluoride (CAS 676-99-3) (CWC Schedule 1B); Methylphosphinyldiflouride;

(2) O-Alkyl (H or equal to or less than C10, including cycloalkyl) O-2-dialkyl (methyl, ethyl, n-Propyl or isopropyl)aminoethyl alkyl (methyl, ethyl, N-propyl or isopropyl)phosphonite and corresponding alkylated and protonated salts, such as: QL: O-Ethyl-2-di-isopropylaminoethyl methylphosphonite (CAS 57856-11-8) (CWC Schedule 1B);

(3) Chlorosarin: O-Isopropyl methylphosphonochloridate (CAS 1445-76-7) (CWC Schedule 1B);

(4) Chlorosoman: O-Pinakolyl methylphosphonochloridate (CAS 7040-57-5) (CWC Schedule 1B);

(5) DC: Methlyphosphonyl dichloride (CAS 676-97-1) (CWC Schedule 2B); Methylphosphinyldichloride;

(d) Tear gases and riot control agents including:

(1) Adamsite (Diphenylamine chloroarsine or DM) (CAS 578-94-9);

(2) CA (Bromobenzyl cyanide) (CAS 5798-79-8);

(3) CN (Phenylacyl chloride or w-Chloroacetophenone) (CAS 532-27-4);

(4) CR (Dibenz-(b,f)-1,4-oxazephine) (CAS 257-07-8);

(5) CS (o-Chlorobenzylidenemalononitrile or o-Chlorobenzalmalononitrile) (CAS 2698-41-1);

(6) Dibromodimethyl ether (CAS 4497-29-4) ;

(7) Dichlorodimethyl ether (ClCi) (CAS 542-88-1);

(8) Ethyldibromoarsine (CAS 683-43-2);

(9) Bromo acetone;

(10) Bromo methylethylketone;

(11) Iodo acetone;

(12) Phenylcarbylamine chloride;

(13) Ethyl iodoacetate;

(e) Defoliants, as follows:

(1) Agent Orange (2,4,5-Trichlorophenoxyacetic acid mixed with 2,4-dichlorophenoxyacetic acid);

(2) LNF (Butyl 2-chloro-4-fluorophenoxyacetate)

*(f) Equipment and its components, parts, accessories, and attachments specifically designed or modified for military operations and compatibility with military equipment as follows:

(1) The dissemination, dispersion or testing of the chemical agents and biological agents listed in paragraph (a) and (b) of this category;

(2) The detection, identification, warning or monitoring of the chemical agents and biological agents listed in paragraph (a) and (b) of this category;

(3) Sample collection and processing of the chemical agents and biological agents listed in paragraph (a) and (b) of this category;

(4) Individual protection against the chemical agents and biological agents listed in paragraph (a) and (b) of this category.

This includes military protective clothing and masks, but not those items designed for domestic preparedness (e.g., civil defense);

(5) Collective protection against the chemical agents and biological agents listed in paragraph (a) and (b) of this category.

(6) Decontamination or remediation of the chemical agents and biological agents listed in paragraph (a) and (b) of this category.

(g) Antibodies, polynucleoides, biopolymers or biocatalysts specifically designed or modified for use with articles controlled in paragraph (f) of this category.

(h) Medical countermeasures, to include pre- and post-treatments, vaccines, antidotes and medical diagnostics, specifically designed or modified for use with the chemical agents listed in paragraph (a) of this category and vaccines with the sole purpose of protecting against biological agents identified in paragraph (b) of this category. Examples include: barrier creams specifically designed to be applied to skin and personal equipment to protect against vesicant agents controlled in paragraph (a) of this category; atropine auto injectors specifically designed to counter nerve agent poisoning.

(i) Modeling or simulation tools specifically designed or modified for chemical or biological weapons design, development or employment. The concept of modeling and simulation includes software covered by paragraph (m) of this category specifically designed to reveal susceptibility or vulnerability to biological agents or materials listed in paragraph (b) of this category.

(j) Test facilities specifically designed or modified for the certification and qualification of articles controlled in paragraph (f) of this category.

(k) Equipment, components, parts, accessories, and attachments, exclusive of incinerators (including those which have specially designed waste supply systems and special handling facilities), specifically designed or modified for destruction of the chemical agents in paragraph (a) or the biological agents in paragraph (b) of this category. This destruction equipment includes facilities specifically designed or modified for destruction operations.

(l) Tooling and equipment specifically designed or modified for the production of articles controlled by paragraph (f) of this category.

(m) Technical data (as defined in § 120.21 of this subchapter) and defense services (as defined in § 120.8 of this subchapter) related to the defense artic1es enumerated in paragraphs (a) through (l) of this category. (See § 125.4 of this subchapter for exemptions.) Technical data directly related to the manufacture or production of any defense articles enumerated elsewhere in this Category that are designated as Significant Military Equipment (SME) shall itself be designated as SME.

(n) The following interpretations explain and amplify the terms used in this category and elsewhere in this subchapter.

(1) A chemical agent in category XIV(a) is a substance having military application, which by its ordinary and direct chemical action, produces a powerful physiological effect.

(2) The biological agents or biologically derived substances in paragraph (b) of this category are those agents and substances capable of producing casualties in humans or livestock, degrading equipment or damaging crops and which have been modified for the specific purpose of increasing such effects. Examples of such modifications include increasing resistance to UV radiation or improving dissemination characteristics. This does not include modifications made only for civil applications (e.g. medical or environmental use).

(3) The destruction equipment controlled by this category related to biological agents in paragraph (b) is that equipment specifically designed to destroy only the agents identified in paragraph (b) of this category.

(4) Technical data and defense services in paragraph (l) include libraries, databases and algorithms specifically designed or modified for use with articles controlled in paragraph (f) of this category.

(5) The tooling and equipment covered by paragraph (l) of this category includes molds used to produce protective masks, over-boots, and gloves controlled by paragraph (f) and leak detection equipment specifically designed to test filters controlled by paragraph (f) of this category.

(6) The resulting product of the combination of any controlled or non-controlled substance compounded or mixed with any item controlled by this subchapter is also subject to the controls of this category.

Note 1: This Category does not control formulations containing 1% or less CN or CS or individually packaged tear gases or riot control agents for personal self-defense purposes.

Note 2: Categories XIV(a) and (d) do not include the following:

(1) Cyanogen chloride;

(2) Hydrocyanic acid;

(3) Chlorine;

(4) Carbonyl chloride (Phosgene);

(5) Ethyl bromoacetate;

(6) Xylyl bromide;

(7) Benzyl bromide;

(8) Benzyl iodide;

(9) Chloro acetone;

(10) Chloropicrin (trichloronitromethane);

(11) Fluorine;

(12) Liquid pepper.

Note 3: Chemical Abstract Service (CAS) registry numbers do not cover all the substances and mixtures controlled by this category. The numbers are provided as examples to assist the government agencies in the license review process and the exporter when completing their license application and export documentation.

Note 4: With respect to U.S. obligations under the Chemical Weapons Convention (CWC), refer to Chemical Weapons Convention Regulations (CWCR) (15 CFR parts 710 through 722). As appropriate, the CWC schedule is provided to assist the exporter.

* * * * *

§§ 121.7, 121.12 and 121.13 [Removed and Reserved]

3. Sections 121.7, 121.12 and 121.13 are removed and reserved.

Dated: August 22, 2002.
John R. Bolton,
Under Secretary Arms Control and International Security, Department of State.

[FR Doc. 02-29595 Filed 11-26-02; 8:45 am]

BILLING CODE 4710-25-P